DEPARTMENT OF LABOR

Employment and Training Administration

[TA-W-61,674]

EGS Electrical Group, Sola/Hevi-Duty Division, Nashville, TN; Dismissal of Application for Reconsideration

Pursuant to 29 CFR 90.18(c) an application for administrative reconsideration was filed with the Director of the Division of Trade Adjustment Assistance for workers at EGS Electrical Group, Sola/Hevi-Duty Division, Nashville, Tennessee. The application did not contain new information supporting a conclusion that the determination was erroneous, and also did not provide a justification for reconsideration of the determination that was based on either mistaken facts or a misinterpretation of facts or of the law. Therefore, a letter of dismissal was issued, which constitutes a negative determination regarding the application for reconsideration.

TA-W-61,674; EGS Electrical Group Sola/Hevi-Duty Division Nashville, Tennessee (September 4, 2007).

Signed at Washington, DC this 21st day of September 2007.
Ralph DiBattista,
Director, Division of Trade Adjustment Assistance.

[FR Doc. E7-19178 Filed 9-27-07; 8:45 am]

BILLING CODE 4510-FN-P